DEPARTMENT OF COMMERCE

National Oceanic and Atmospheric Administration

50 CFR Parts 222 and 223

[Docket No. 000320077-1177-02; I.D. 062501B]

RIN 0648-AN62

Endangered and Threatened Wildlife; Sea Turtle Conservation Requirements

AGENCY: National Marine Fisheries Service (NMFS), National Oceanic and Atmospheric Administration (NOAA), Commerce.

ACTION: Proposed rule; correction.

SUMMARY: This document, filed October 1, 2001, and published in the Federal Register on October 2, 2001, has inadverdently published without a RIN. This correction corrects that omission.

DATES: Written comments will be accepted on or before November 19, 2001.

FOR FURTHER INFORMATION CONTACT: Robert Hoffman (ph. 727-570-5312, fax 727-570-5517, e-mail Robert.Hoffman@noaa.gov), or Therese A. Conant (ph. 301-713-1401, fax 301-713-0376, e-mail Therese.Conant@noaa.gov).

SUPPLEMENTARY INFORMATION:

Background

This document, published at 66 FR 50148, October 2, 2001, inadvertently omitted the RIN.

Correction

Accordingly, the RIN is corrected to read as set forth above.

Authority: 16 U.S.C. 1531-1544; and 16 U.S.C. 742a et seq., unless otherwise noted.

Dated: October 15, 2001.
William T. Hogarth,
Assistant Administrator of Fisheries, National Marine Fisheries Service.

[FR Doc. 01-26455 Filed 10-18-01; 8:45 am]

BILLING CODE 3510-22-S